DEPARTMENT OF DEFENSE

Office of the Secretary

Meeting of the National Defense University Visitors (BOV)

AGENCY: Department of Defense; National Defense University.

ACTION: Notice of open meeting.

SUMMARY: The National Defense University (NDU), Designated Federal Officer, has scheduled a meeting of the Board of Visitors. The National Defense University Board of Visitors is a Federal Advisory Board. The Board meets twice a year in proceedings that are open to the public.

DATES: The meeting will be held on May 28-29, 2009 from 1130-1700 on the 28th and continuing on the 29th from 0800-1200.

ADDRESSES: The Board of Visitors meeting will be held at Building 62, Marshall Hall, Room 155, National Defense University, 300 5th Avenue, Fort McNair, Washington, DC 20319-5066.

FOR FURTHER INFORMATION CONTACT: The point of contact for this notice is Jeanette Tolbert @ (202) 685-3955, Fax (202) 685-3328 or TolbertJ@ndu.edu.

SUPPLEMENTARY INFORMATION: The Board will discuss: State of the University, National Security Professional Development, Accreditation, and Federal Policy. The meeting is open to the public; limited space is made available for observers and will be allocated on a first-come, first-serve basis.

Dated: March 9, 2009.
Patricia L. Toppings,
OSD Federal Register Liaison Officer, Department of Defense.

[FR Doc. E9-5629 Filed 3-13-09; 8:45 am]

BILLING CODE 5001-06-P